NUCLEAR REGULATORY COMMISSION

[NRC-2010-0355]

USEC Inc. (American Centrifuge Lead Cascade Facility and American Centrifuge Plant); Direct Transfer of Licenses

In the Matter of USEC INC. (American Centrifuge Lead Cascade Facility and American Centrifuge Plant); Order EA-12-027, Docket Nos. 70-7003, 70-7004, License Nos. SNM-7003, SNM-2011

Order Extending the Date by Which the Direct Transfer of Licenses Is To Be Completed

I

USEC Inc., (USEC) is the holder of materials licenses SNM-7003 and SNM-2011 for the American Centrifuge Lead Cascade Facility (Lead Cascade) and American Centrifuge Plant (ACP), respectively, which authorize the licensee to: (1) Possess and use source and special nuclear material at the Lead Cascade at the former Portsmouth Gaseous Diffusion Plant site in Piketon, Ohio, in accordance with materials license number SNM-7003; and (2) construct and operate a gas centrifuge uranium enrichment facility (the ACP) at the former Portsmouth Gaseous Diffusion Plant site in Piketon, Ohio, in accordance with materials license number SNM-2011.

II

The U.S. Nuclear Regulatory Commission's (NRC) Order EA-11-013, dated February 10, 2011, approved the direct transfer of the licenses of the above facilities from USEC to the limited liability company American Centrifuge Operating, LLC (ACO), pursuant to Sections 161(b), 161(i), 161(o) and 184 of the Atomic Energy Act, as amended; 42 United States Code (U.S.C.) 2201(b), 2201(i), and 2234; and Title 10 of the Code of Federal Regulations (10 CFR) 30.34(b), 10 CFR 40.46, “Inalienability of Licenses,” and 10 CFR 70.36, “Inalienability of Licenses.” By Order EA-11-180, dated August 8, 2011, the NRC approved an extension to Order EA-11-013 until February 9, 2012. By their terms, both orders will become null and void if the license transfers are not completed by February 9, 2012. However, both the February 10, 2011, and the August 9, 2011, Orders further state that upon written application and for good cause shown, the implementation period for the license transfers may be extended by further Order.

III

By letter dated January 6, 2012, and supplemented by letter dated January 27, 2012, USEC submitted a request to extend the date by which the license transfers must be completed from February 9, 2012, to February 8, 2013. USEC stated that Condition 3 of Order EA-11-013 will be satisfied following completion of actions with the DOE, without any linkage to the loan guarantee. In its January 27, 2012, letter, USEC stated that due to uncertainty, it appears that the date for completion of activities associated with the sub-lease will extend beyond May 18, 2012. Accordingly, USEC stated that it will not be able to fully implement the conditions in Order EA-11-013 by February 9, 2012, and is requesting a second extension to Order EA-11-013.

USEC states that there have been no changes in the information and technical and financial qualifications presented in its September 10, 2010, request to transfer the licenses (Agencywide Documents Access and Management System (ADAMS) Accession No. ML102660371). The NRC staff notes that its basis for approving the transfers of USEC's licenses for the Lead Cascade and the ACP from USEC to ACO is documented in its safety evaluation report (SER, ADAMS Accession No. ML103630748) supporting the February 10, 2011, Order.

The NRC staff reviewed the information provided by USEC in its September 10, 2010, transfer of licenses request, the information provided in its July 22, 2011, first extension request (ADAMS Accession No. ML11210B497), and supplemental electronic communication dated August 1, 2011 (ADAMS Accession No. ML11213A282), and the information provided in its January 6, 2012, second extension request, and supplemental letter dated January 27, 2012. Based on this review of the information provided by USEC, the NRC staff concludes that the basis for originally approving the transfers of USEC's licenses for the Lead Cascade and the ACP from USEC to ACO remains valid. The NRC staff evaluated the January 6, 2012, submittal and the January 27, 2012, supplemental letter and determined that USEC has shown good cause to extend the implementation period of Order EA-11-013 a second time and, therefore, the implementation date for Order EA-11-013 should be extended to February 8, 2013, the date by which the transfer of licenses must be completed.

IV

Accordingly, pursuant to Sections 161b, 161i, 161o, and 184 of the Atomic Energy Act of 1954, as amended, 42 U.S.C. 2201(b), 2201(i), and 2234; and 10 CFR 30.34(b), 10 CFR 40.46, “Inalienability of Licenses,” and 10 CFR 70.36, “Inalienability of Licenses,” It Is Hereby Ordered that the date by which the license transfers described above must be completed is extended to February 8, 2013. If the proposed direct transfer of licenses is not completed by February 8, 2013, this Order and the February 10, 2011, Order shall become null and void. However, upon written application and for good cause shown, the February 8, 2013, date may be extended by further Order.

This Order is effective upon issuance. The Order of February 10, 2011, as modified by the August 8, 2011, Order and this Order, remains in full force and effect.

For further details with respect to this Order, see the submittal dated January 6, 2012 (ADAMS Accession No. ML11210B497), the supplemental letter dated January 27, 2012 (ADAMS Accession No. ML12032A279), and the SER documenting NRC's staff evaluation of USEC's submittal dated February 8, 2012 (ADAMS Accession No. ML12027A034), which may be examined—and/or copied for a fee—at the NRC's Public Document Room, located at One White Flint North, 11555 Rockville Pike (First Floor), Rockville, MD 20852; and accessible online in the NRC Library at http://www.nrc.gov/reading-rm/adams.html.

Dated at Rockville, Maryland, this 8th day of February 2012.
For the U.S. Nuclear Regulatory Commission.
Catherine Haney,
Director, Office of Nuclear Material Safety and Safeguards.

[FR Doc. 2012-3675 Filed 2-15-12; 8:45 am]

BILLING CODE 7590-01-P